DEPARTMENT OF THE INTERIOR

Fish and Wildlife Service

50 CFR Chapter I

[Docket No. FWS-R7-EA-2022-0088; FF07X00000-FXGO16600700000-223]

Draft Alaska Native Relations Policy of the U.S. Fish and Wildlife Service

AGENCY: Fish and Wildlife Service, Interior.

ACTION: Draft proposed policy; request for comment.

SUMMARY: We, the U.S. Fish and Wildlife Service (Service), are making available for public comment our draft Alaska Native Relations policy. The purpose of this policy is to build on the Service's existing Native American policy by providing additional clarity for employees on the Service's relationships with Tribes in Alaska, Alaska Native organizations, and Alaska Native corporations. We invite comments on the draft policy from State and Federal government agencies, federally recognized Tribal governments, inter-Tribal organizations, non-federally recognized Tribal governments, Alaska Native corporations, and the general public.

DATES: The Service will accept comments received or postmarked on or before December 5, 2022.

ADDRESSES:

Obtaining Documents: You may obtain copies of the draft policy online at https://www.regulations.gov. In the Search box, enter the docket number, which is FWS-R7-EA-2022-0088.

Submitting Comments: You may submit comments by one of the following methods:

• Internet: https://www.regulations.gov. In the Search box, enter the docket number, which is FWS-R7-EA-2022-0088. You may enter a comment by clicking on the “Comment” button. Please ensure that you have found the correct docket before submitting your comment.

• U.S. Mail or Hand Delivery: Public Comments Processing, Attn: Docket No. FWS-R7-EA-2022-0088; Policy and Regulations Branch; U.S. Fish and Wildlife Service; 5275 Leesburg Pike, MS: PRB (JAO/3W); Falls Church, VA 22041-3803.

We will post all comments on https://www.regulations.gov. This generally means that we will post any personal information you provide us (see Public Availability of Comments and Personal Information for more information).

FOR FURTHER INFORMATION CONTACT: Crystal Leonetti, Alaska Native Affairs Specialist, via email at crystal_leonetti@fws.gov; by U.S. mail at U.S. Fish and Wildlife Service, 1011 E Tudor Road, MS-101, Anchorage, AK 99503; or by telephone at (907) 230-8419. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), are making available for public comment our draft Alaska Native Relations policy. The purpose of the policy is to build on the Service's foundational Native American policy, and to serve as a framework for relationships and interactions between the Service and federally recognized Tribes in Alaska, Alaska Native organizations, and Alaska Native corporations, in order to conserve fish and wildlife and protect cultural resources. It will provide additional clarity for the Service on doctrines of reserved rights, statutes, case law, Executive Orders, and Secretarial Orders. The policy is intended to recognize the sovereignty of federally recognized Tribes in Alaska, direct that the Service work on a government-to-government basis with Tribal governments, and make clear that the Service has a unique relationship with Alaska Native organizations and Alaska Native corporations. The policy includes guidance on co-management, subsistence, resource management, capacity, law enforcement, and education.

This policy is not meant to stand on its own; when final, it will be part of the Service's existing Native American policy. We will incorporate it into part 510 of the Fish and Wildlife Service Manual as chapter 2.

To implement the Alaska Native Relations policy, in addition to drawing upon the overall Native American policy, the Service will use the U.S. Fish and Wildlife Service Tribal Consultation Handbook and carry out Alaska Native Relations training so that Service employees will be able to better perform duties related to this policy.

Draft Policy

We recognize that, when the Service and Indigenous peoples work together on stewarding the land and wildlife, our longstanding relationships are strengthened and resources are better stewarded. This policy will provide Service employees with guidance on recognition of the unique Alaska Native way of life, known in statute as “subsistence living,” and the Service's role in honoring those ecosystem relationships. The policy will provide Service employees with guidance when working with recognized Tribes in Alaska and Alaska Native organizations and corporations.

The proposed structure of the policy follows:

• Section 1 recognizes the unique relationship that Federal governmental agencies have with federally recognized Tribes. It identifies which statutes make specific provisions for Alaska Native peoples and ways of life that are integral to how the Service manages lands and species entrusted to our care. It explains why the Service has a unique relationship with Alaska Native corporations and organizations.

• Section 2 re-emphasizes the sovereignty of 229 Tribes in Alaska and the Service's government-to-government relationships with these Tribes.

• Section 3 describes communication, consultation, and information sharing between the Service and Tribes, Alaska Native organizations, and Alaska Native corporations.

• Section 4 sets out a range of collaborative management opportunities and establishes principles of co-management where Tribes and the Service have shared responsibility by statute, land management authority, and shared values.

• Section 5 recognizes the importance of Alaska Native peoples' traditional and spiritual ways of life, including recognition through the Alaska National Interest Lands Conservation Act.

• Section 6 presents guidance for Service law enforcement programs to work collaboratively with Tribes and Alaska Native organizations and corporations, which may include reviewing their draft regulatory language to ensure it is enforceable.

• Section 7 outlines some of the ways the Service supports Tribal, Alaska Native organization, and Alaska Native corporation capacity building and assistance.

• Section 8 commits the Service to offer training for employees that covers diverse topics such as Alaska Native history, Indigenous traditional ecological knowledge, and the laws that impact Alaska Native peoples. It encourages Service personnel to seek Alaska Native job applicants and facilitate opportunities for Alaska Native business partnerships.

• Section 9 describes the policy's scope and limitations.

• Exhibit 1 provides a glossary that supplements the glossary found in chapter 1 of the Service's Native American policy.

• Exhibit 2 describes the responsibilities of employees at all levels of the Service to carry out this policy.

• Exhibit 3 lists the authorities under which the Service may take the actions described in the policy.

Background and Development of the Draft Policy

On January 20, 2016, the Service adopted its updated Native American policy to guide the Service's government-to-government relations with federally recognized Tribal governments in conserving fish and wildlife resources and to “help accomplish its mission and concurrently to participate in fulfilling the Federal Government's and Department of the Interior's trust responsibilities to assist Native Americans in protecting, conserving, and utilizing their reserved, treaty guaranteed, or statutorily identified trust assets.” In order to update the Native American policy, in 2013 the Service had convened a Native American policy team to review the original 1994 policy. The team was comprised of Service representatives from its regions and programs and 16 self-nominated Tribal representatives from all of the major regions. As team discussions evolved, it became apparent that there was a large volume of Alaska-related exceptions to Native American policy, such as statutes guiding co-management relationships and subsistence on Federal lands. The exceptions called for a separate chapter on Alaska.

Representatives from the following Tribes, Alaska Native organizations, and Alaska Native corporations participated in a series of meetings with Service representatives to write the draft Alaska Native Relations policy chapter: Chugach Regional Resources Commission, Central Council of Tlingit and Haida Indian Tribes of Alaska, Ninilchik Tribal Council, Curyung Tribal Council, Native Village of Savoonga, Native Village of Afognak, Village of Wainwright, Ruby Tribal Council, Agdaagux Tribe of King Cove, Kwethluk, Inc., Doyon, Ltd., and Sealaska. The team used a consensus decision-making process. The team wrote the policy to mirror the existing Native American policy, so that each section of chapter 2 is parallel in structure to the corresponding section in chapter 1 and supplements chapter 1.

In April 2022, the Service invited federally recognized Tribal governments in Alaska, Alaska Native organizations, and Alaska Native corporations to consult on a draft of the new policy. Five Tribal government representatives, eight Alaska Native organization representatives, and seven Alaska Native corporation representatives attended consultation events via web broadcasts and telephone. The Service also received written comments from three Alaska Native organizations and one Alaska Native corporation to further develop and refine the draft Alaska Native Relations policy.

Request for Comments and Information

While this publication opens the 30-day public review and comment period, we also invite and encourage Tribes, Alaska Native organizations, and Alaska Native corporations to continue to review and submit comments within this review period. The Service's invitation to federally recognized Tribal governments to consult on a government-to-government basis regarding development of the Alaska Native Relations policy continues until the comment period closes (see DATES). Comments from local, State, and Federal government agencies; federally recognized Tribal governments; inter-Tribal organizations, non-federally recognized Tribal governments; Alaska Native corporations; and the general public are welcome.

Public Availability of Comments and Personal Information

Before including your address, phone number, email address, or other personal identifying information in your comment, you should be aware that your entire comment—including your personal identifying information—may be made publicly available at any time. While you can ask us in your comment to withhold your personal identifying information from public review, we cannot guarantee that we will be able to do so.

Authority

The authority for this action is found in the Alaska National Interest Lands Conservation Act of 1980, as amended (ANILCA; 16 U.S.C. 3101-3233), and the Alaska Native Claims Settlement Act, as amended (ANCSA; 43 U.S.C. 1601-1629h).

Signing Authority

Martha Williams, Director of the U.S. Fish and Wildlife Service, approved this action on October 27, 2022, for publication. On October 31, 2022, Martha Williams authorized the undersigned to sign the document electronically and submit it to the Office of the Federal Register for publication as an official document of the U.S. Fish and Wildlife Service.

Madonna Baucum,
Regulations and Policy Chief, Division of Policy, Economics, Risk Management, and Analytics of the Joint Administrative Operations, U.S. Fish and Wildlife Service.

[FR Doc. 2022-23931 Filed 10-31-22; 4:45 pm]

BILLING CODE 4333-15-P